FEDERAL COMMUNICATIONS COMMISSION

Notice of Public Information Collection(s) Being Reviewed by the Federal Communications Commission, Comments Requested

March 19, 2008.

SUMMARY: The Federal Communications Commission, as part of its continuing effort to reduce paperwork burden, invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before May 27, 2008. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Jerry Cowden, Federal Communications Commission, Room 1-B135, 445 12th Street, SW., Washington, DC 20554.

FOR FURTHER INFORMATION CONTACT: For additional information about the information collection(s), contact Jerry Cowden via e-mail at PRA@fcc.gov or call (202) 418-0447.

SUPPLEMENTARY INFORMATION: OMB Control No.: None.

Title: Reporting Requirement to Determine Progress Toward Compliance with E911 Location Accuracy Requirement (47 CFR 20.18(h)).

Form Nos.: N/A.

Type of Review: New collection.

Respondents: Business or other for-profit, not-for-profit institutions, state, local or tribal government.

Number of Respondents and Responses: 6,200 respondents; 6,200 responses.

Estimated Time per Response: 3 hours.

Frequency of Response: One time.

Obligation to Respond: Mandatory (authority: 47 CFR 20.18(h)).

Total Annual Burden: 18,600 hours.

Total Annual Cost: None.

Privacy Impact Assessment: Not applicable.

Nature and Extent of Confidentiality: No confidentiality is required for this collection.

Needs and Uses: The Commission's Report and Order (FCC 07-166, PS Docket No. 07-114, CC Docket No. 94-102, WC Docket No. 05-196) (the Order), requires wireless licensees subject to section 20.18(h) of the Commissions rules, to satisfy wireless enhanced 911 (E911) emergency communications service location accuracy and reliability standards at a geographical level defined by the coverage area of a Public Safety Answering Point (PSAP). Inaccurate and unreliable E911 location information can cause tragic results. This requirement is an initial step to ensure that all stakeholders—including public safety entities, wireless carriers, and technology providers—are subject to an appropriate and consistent compliance methodology with respect to the location accuracy standards in section 20.18(h). The Order establishes a deadline of September 11, 2012 for achieving compliance with this requirement. In order to ensure that carriers are making progress toward compliance, the Order requires carriers to provide the Commission with two reports describing the status of their ongoing compliance efforts. The first report must be filed by September 11, 2009, and the second report must be filed by September 11, 2011. Only the first report is covered by this information collection.

Federal Communications Commission.
William F. Caton,
Deputy Secretary.

[FR Doc. E8-6030 Filed 3-26-08; 8:45 am]

BILLING CODE 6712-01-P